FEDERAL COMMUNICATIONS COMMISSION

47 CFR Part 73

[DA 01-391, MM Docket No. 01-44, RM-10022]

Television Broadcast Service; Derby, KS

AGENCY: Federal Communications Commission.

ACTION: Proposed rule.

SUMMARY: The Commission requests comments on a petition filed by Pappas Telecasting of America requesting the allotment of channel 59 to Derby, Kansas, as the community first local commercial television service. Channel 59 can be allotted to Derby consistent with Section 73.623(d) of the Commission's Rules with a zero offset at coordinates 37-55-01 N. and 97-37-21 W. We will not accept competing expressions of interest in the use of television channel 59 at Derby or counterproposals in the same or nearby communities. See Public Notice released on November 22, 1999, DA 99-2605.

DATES: Comments must be filed on or before April 13 , 2001, and reply comments on or before April 30, 2001.

ADDRESSES: Federal Communications Commission, 445 12th Street, SW., Room TW-A325, Washington, DC 20554. In addition to filing comments with the FCC, interested parties should serve the petitioner, or its counsel or consultant, as follows: Andrew S. Kersting, Fletcher, Heald & Hildreth, P.L.C., 11th Floor, 1300 North 17th Street, Arlington, Virginia 22209-3801 (Counsel for Pappas Telecasting of America).

FOR FURTHER INFORMATION CONTACT: Pam Blumenthal, Mass Media Bureau, (202) 418-1600.

SUPPLEMENTARY INFORMATION: This is a synopsis of the Commission's Notice of Proposed Rule Making, MM Docket No. 01-44, adopted February 16, 2001, and released February 20, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.606 [Amended]

2. Section 73.606(b), the Table of Television Allotments under Kansas is amended by adding Derby, Channel 59.

Federal Communications Commission.
Barbara A. Kreisman,
Chief, Video Services Division, Mass Media Bureau.

[FR Doc. 01-4807 Filed 2-27-01; 8:45 am]

BILLING CODE 6712-01-P